ENVIRONMENTAL PROTECTION AGENCY

[OAR-2002-0094; FRL-7502-6]

Agency Information Collection Activities; Proposed Collection; Comment Request; (EPA ICR No. 2100.01)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reporting Requirements Under EPA's Climate Leaders Program, (EPA ICR No. 2100.01). This ICR describes the nature of the information collection and its estimated burden and cost.

DATES: Additional comments may be submitted on or before June 23, 2003.

ADDRESSES: Follow the detailed instructions in SUPPLEMENTARY INFORMATION.

FOR FURTHER INFORMATION CONTACT: Tom Kerr, Climate Protection Partnerships Division, Office of Atmospheric Programs, Office of Air and Radiation, Mailcode 6202J, Environmental Protection Agency, 1200 Pennsylvania Ave., NW., Washington, DC 20460; telephone number: 202-564-0047; fax number: 202-565-2134; e-mail address: kerr.tom@epa.gov.

SUPPLEMENTARY INFORMATION: EPA has submitted the following ICR to OMB for review and approval according to the procedures prescribed in 5 CFR 1320.12. On June 18, 2002 (67 FR 117), EPA sought comments on this ICR pursuant to 5 CFR 1320.8(d). EPA received 2 comments and has addressed them in the program design.

EPA has established a public docket for this ICR under Docket ID No. OAR-2002-0094, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to a-and-r-docket@epamail.epa.gov, or by mail to: EPA Docket Center, Environmental Protection Agency, Mailcode: 6202J, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Reporting Requirements Under EPA's Climate Leaders Program (EPA ICR Number 2100.01). This is a request for a new collection.

Abstract: Climate Leaders is an EPA-sponsored, voluntary program that encourages companies to undertake greenhouse gas (GHG) reduction goals and to develop a corporate GHG inventory to demonstrate progress towards that goal. It is run through EPA's Climate Protection Partnerships Division (CPPD) in the Office of Air & Radiation. Companies report their GHG inventories to EPA on an annual basis to demonstrate their progress toward their GHG reduction goal. This reporting allows EPA to offer highly credible public recognition to companies that have demonstrated leadership by meeting or exceeding their goals.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 73 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: large companies/private entities.

Estimated Number of Respondents: 70.

Frequency of Response: annual.

Estimated Total Annual Hour Burden: 5,114 hours.

Estimated Total Annual Cost: $433,390, includes $5,810 annualized capital or O&M costs.

Changes in the Estimates: This is a new information collection, and as such, this section is not applicable.

Dated: May 8, 2003.
Oscar Morales,
Director, Collection Strategies Division.

[FR Doc. 03-12868 Filed 5-21-03; 8:45 am]

BILLING CODE 6560-50-P